JUDICIAL CONFERENCE OF THE UNITED STATES

Meeting of the Judicial Conference Committee on Rules of Practice and Procedure

AGENCY: Advisory Committee on Rules of Evidence, Judicial Conference of the United States.

ACTION: Notice of open meeting.

SUMMARY: The Advisory Committee on Rules of Evidence will hold a one-day meeting. The meeting will be open to public observation but not participation.

DATES: October 9, 2015.

Time: 8:30 a.m. to 3:00 p.m.

ADDRESSES: The John Marshall Law School, 315 South Plymouth Court, Room 1200, Chicago, IL 60604.

FOR FURTHER INFORMATION CONTACT: Rebecca A. Womeldorf, Rules Committee Secretary, Rules Committee Support Office, Administrative Office of the United States Courts, Washington, DC 20544, telephone (202) 502-1820.

Dated: September 3, 2015.
Rebecca A. Womeldorf,
Rules Committee Secretary.

[FR Doc. 2015-22756 Filed 9-9-15; 8:45 am]

BILLING CODE 2210-55-P